NATIONAL AERONAUTICS AND SPACE ADMINISTRATION

[Notice (02-014)]

NASA Advisory Council (NAC), Space Science Advisory Committee (SScAC), Astronomical Search for Origins and Planetary Systems Subcommittee (OS); Meeting

AGENCY: National Aeronautics and Space Administration.

ACTION: Notice of meeting.

SUMMARY: In accordance with the Federal Advisory Committee Act, Pub. L. 92-463, as amended, the National Aeronautics and Space Administration announces a forthcoming meeting of the NASA Advisory Council, Space Science Advisory Committee, Astronomical Search for Origins Planetary Systems Subcommittee.

DATES: Monday, February 25, 2002, 8:30 a.m. to 5:30 p.m.

ADDRESSES: Doubletree Hotel Pasadena, 191 N Los Robles, Pasadena, California 91101.

FOR FURTHER INFORMATION CONTACT: Ms. Marian Norris, Code SB, National Aeronautics and Space Administration, Washington, DC 20546, (202) 358-4452.

SUPPLEMENTARY INFORMATION: The meeting will be open to the public up to the capacity of the room. The agenda for the meeting includes the following topics:

—SS Budget

—SIRTF Update

—Wide Field Camera 3 (HST instrument) Update

—Origins Theme Update

—Roadmapping Update

It is imperative that the meeting be held on these dates to accommodate the scheduling priorities of the key participants. Visitors will be requested to sign a visitor's register.

Sylvia K. Kraemer,
Advisory Committee Management Officer, National Aeronautics and Space Administration.

[FR Doc. 02-2536 Filed 1-31-02; 8:45 am]

BILLING CODE 7510-01-P